NUCLEAR REGULATORY COMMISSION

[Docket No. 50-608; NRC-2013-0053]

Construction Permit Application for the SHINE Medical Radioisotope Production Facility

AGENCY: Nuclear Regulatory Commission.

ACTION: Environmental impact statement; issuance.

SUMMARY: The U.S. Nuclear Regulatory Commission (NRC) is issuing a final Environmental Impact Statement (EIS) for the Construction Permit Application submitted by SHINE Medical Technologies, Inc. (SHINE) for the SHINE Medical Radioisotope Production Facility, NUREG-2183 (SHINE facility).

DATES: The final EIS for the SHINE Construction Permit is available as of October 16, 2015.

ADDRESSES: Please refer to Docket ID NRC-2013-0053 when contacting the NRC about the availability of information regarding this document. You may obtain publicly-available information related to this document using any of the following methods:

• Federal Rulemaking Web site: Go to http://www.regulations.gov and search for Docket ID NRC-2013-0053. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The final EIS for the SHINE Construction Permit is available in ADAMS under Accession No. ML15288A046.

• NRC's PDR: You may examine and purchase copies of public documents at the NRC's PDR, Room O1-F21, One White Flint North, 11555 Rockville Pike, Rockville, Maryland 20852.

FOR FURTHER INFORMATION CONTACT: Michelle Moser, Office of Nuclear Reactor Regulation, U.S. Nuclear Regulatory Commission, Washington, DC 20555-0001; telephone: 301-415-6509; email: Michelle.Moser@nrc.gov.

SUPPLEMENTARY INFORMATION:

I. Background

In accordance with § 51.118 of title 10 of the Code of Federal Regulations (10 CFR), the NRC is making available the final EIS for the Construction Permit Application submitted for the SHINE facility. The NRC published the draft EIS in the NRC in the Federal Register on May 14, 2015 (80 FR 27710), and the Environmental Protection Agency noticed the availablity of the draft EIS on May 22, 2015 (80 FR 29701). The public comment period on the draft EIS ended on July 6, 2015, and the comments received are addressed in the final EIS (Accession No. ML15288A046). The final EIS is available as indicated in the ADDRESSES section of this document.

II. Discussion

As discussed in Chapter 6 of the final EIS, after weighing the environmental, economic, technical, and other benefits against environmental and other costs, and considering reasonable alternatives, the NRC staff recommends the issuance of the Construction Permit to SHINE, unless safety issues mandate otherwise. This recommendation is based on: (1) SHINE's Environmental Report; (2) the NRC staff's consultation with Federal, State, and local agencies; (3) the NRC staff's independent environmental review; and (4) the NRC staff's consideration of public comments.

Dated at Rockville, Maryland, this 16th day of October 2015.
For the Nuclear Regulatory Commission.
David J. Wrona,
Chief, Environmental Review and Guidance Branch, Division of License Renewal, Office of Nuclear Reactor Regulation.

[FR Doc. 2015-26860 Filed 10-21-15; 8:45 am]

BILLING CODE 7590-01-P